DEPARTMENT OF AGRICULTURE

Animal and Plant Health Inspection Service

7 CFR Part 354

9 CFR Parts 130 and 156

[Docket No. APHIS-2006-0028]

RIN 0579-AC44

User Fees; Updates and Clarifications

AGENCY: Animal and Plant Health Inspection Service, USDA.

ACTION: Final rule.

SUMMARY: We are amending our Agricultural Quarantine and Inspection Services user fee regulations to update an address that appears in several places. We are also making several nonsubstantive changes to the Veterinary Services user fee regulations to correct errors and to clarify the services covered by certain existing user fees. These changes, which do not affect any existing fees, are necessary to ensure that the user fee regulations are up to date and to ensure their clarity.

EFFECTIVE DATE: January 14, 2008.

FOR FURTHER INFORMATION CONTACT: Mrs. Kris Caraher, User Fees Section Head, Financial Services Branch, Financial Management Division, MRBPS, APHIS, 4700 River Road Unit 54, Riverdale, MD 20737-1232; (301) 734-5901.

SUPPLEMENTARY INFORMATION:

Background

On July 17, 2007, we published in the Federal Register (72 FR 39025-39028, Docket No. APHIS-2006-0028) a proposal ¹ to amend our Agricultural Quarantine and Inspection (AQI) Services user fee regulations contained in 7 CFR part 354 to update an address that appears in several places. We also proposed several nonsubstantive changes to the Veterinary Services user fee regulations contained in 9 CFR part 130 to correct errors and to clarify the services covered by certain existing user fees. Finally, we proposed to remove all references to cooperative agreements in 9 CFR part 156 because the export product endorsement and inspection services formerly covered by those agreements are now covered by user fees in 9 CFR part 130. These changes, which do not affect any existing fees, are necessary to ensure that the user fee regulations are up to date and to ensure their clarity.

¹ To view the proposed rule, go to http://www.regulations.gov/fdmspublic/component/main?main=DocketDetail&d=APHIS-2006-0028.

We solicited comments concerning our proposal for 60 days ending September 17, 2007. We did not receive any comments. Therefore, for the reasons given in the proposed rule, we are adopting the proposed rule as a final rule, without change.

Executive Order 12866 and Regulatory Flexibility Act

This rule has been reviewed under Executive Order 12866. The rule has been determined to be not significant for the purposes of Executive Order 12866 and, therefore, has not been reviewed by the Office of Management and Budget.

This rule amends our AQI user fee regulations by updating an address that appears in several places. We also make several nonsubstantive changes to the Veterinary Services user fee regulations to correct errors and to clarify existing user fee services. The changes to the regulations are administrative in nature and do not result in any new fees being charged or any additional entities becoming subject to user fees.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This final rule has been reviewed under Executive Order 12988, Civil Justice Reform. This rule: (1) Preempts all State and local laws and regulations that are in conflict with this rule; (2) has no retroactive effect; and (3) does not require administrative proceedings before parties may file suit in court challenging this rule.

Paperwork Reduction Act

This final rule contains no new information collection or recordkeeping requirements under the Paperwork Reduction Act of 1995 (44 U.S.C. 3501 et seq.).

List of Subjects

7 CFR Part 354

Animal diseases, Exports, Government employees, Imports, Plant diseases and pests, Quarantine, Reporting and recordkeeping requirements, Travel and transportation expenses.

9 CFR Part 130

Animals, Birds, Diagnostic reagents, Exports, Imports, Poultry and poultry products, Quarantine, Reporting and recordkeeping requirements, Tests.

9 CFR Part 156

Exports, Livestock, Poultry and poultry products, Reporting and recordkeeping requirements.

Accordingly, we are amending 7 CFR part 354 and 9 CFR parts 130 and 156 as follows:

TITLE 7—[AMENDED]

PART 354—OVERTIME SERVICES RELATING TO IMPORTS AND EXPORTS; AND USER FEES

1. The authority citation for part 354 continues to read as follows:

Authority: 7 U.S.C. 7701-7772, 7781-7786, and 8301-8317; 21 U.S.C. 136 and 136a; 49 U.S.C. 80503; 7 CFR 2.22, 2.80, and 371.3.

§ 354.3 [Amended]

2. In § 354.3, paragraphs (d)(4) introductory text, (d)(5), (d)(6), (e)(3)(i), (e)(3)(ii), (e)(4), (f)(5)(i), (f)(5)(ii), (f)(5)(iii), (f)(6), and (f)(7), the words “Box 952181, St. Louis, MO 63195-2181” are removed and the words “Box 979044, St. Louis, MO 63197-9000” are added in their place.

TITLE 9—[AMENDED]

PART 130—USER FEES

3. The authority citation for part 130 continues to read as follows:

Authority: 5 U.S.C. 5542; 7 U.S.C. 1622 and 8301-8317; 21 U.S.C. 136 and 136a; 31 U.S.C. 3701, 3716, 3717, 3719, and 3720A; 7 CFR 2.22, 2.80, and 371.4.

§ 130.2 [Amended]

4. In § 130.2, paragraph (a), the first sentence is amended by adding the words “for any service rendered by an APHIS representative” after the word “fees”.

§ 130.3 [Amended]

5. In § 130.3, paragraph (c)(3) is amended by removing the words “for those services” and adding the words “for any service rendered by an APHIS representative” in their place.

§ 130.4 [Amended]

6. In § 130.4, the first sentence of the section is amended by adding the words “for any service rendered by an APHIS representative” after the word “fees”, and the sentence “These fees are nonrefundable.” is added after the second sentence.

§ 130.5 [Amended]

7. In § 130.5, paragraph (a), the first sentence is amended by adding the words “for any service rendered by an APHIS representative” after the word “fees”.

§ 130.6 [Amended]

8. In § 130.6, paragraph (a), the first sentence is amended by adding the words “for any service rendered by an APHIS representative” after the word “fees”.

9. Section 130.7 is amended as follows:

a. In paragraph (a), first sentence, by adding the words “for any service rendered by an APHIS representative” after the word “fees”.

b. By adding paragraph (b) to read as set forth below.

§ 130.7 User fees for import or entry services for live animals at land border ports along the United States-Canada border.

* * * * *

(b) If a service must be conducted on a Sunday or holiday or at any other time outside the normal tour of duty of the employee, then reimbursable overtime, as provided for in part 97 of this chapter, must be paid for each service, in addition to the user fee listed in this section.

* * * * *

§ 130.8 [Amended]

10. In § 130.8, paragraph (a), the first sentence is amended by adding the words “for any service rendered by an APHIS representative” after the word “fees”.

§ 130.11 [Amended]

11. In § 130.11, paragraph (a) is amended by adding the sentence “These user fees do not apply to inspection activities covered in § 130.30(a)(2).” after the last sentence.

12. In § 130.20, paragraph (b)(1) is amended by adding footnote 1 in the table heading and by revising in the table the entry for “Nonslaughter horses to Canada” to read as follows:

§ 130.20 User fees for endorsing export certificates.

* * * * *

(b)(1) * * *

Number ¹ of tests or vaccinations and number of animals or birds on the certificate | User fee beginning Oct. 1, 2003
* * * * * * *
Nonslaughter horses to Canada:
First horse | $38.00
Each additional horse | 4.25
* * * * * * *
¹ Rabies vaccinations are not included in this number.

* * * * *

13. Section 130.30 is amended as follows:

a. In the introductory text of paragraph (a), by removing the words “through (a)(13)” and adding the words “through (a)(18)” in their place.

b. Paragraph (a)(2) is revised to read as set forth below.

c. In paragraph (a)(4), by adding the words “, such as monitoring birds—including but not limited to pet birds—between flights” after the word “quarantine”.

d. Paragraph (a)(13) is redesignated as paragraph (a)(18), and new paragraphs (a)(13), (a)(14), (a)(15), (a)(16), and (a)(17) are added to read as set forth below.

§ 130.30 Hourly rate and minimum user fees.

(a) * * *

* * * * *

(2) Conducting inspections, including inspections of laboratories and facilities (such as biosecurity level two facilities), required either to obtain import permits for animal products, aquaculture products, or organisms or vectors, or to maintain compliance with import permits. This hourly rate does not apply to inspection activities covered in § 130.11.

* * * * *

(13) Import or entry services for feeder animals including, but not limited to, feeder goats and feeder bison not covered by a flat rate user fee in § 130.7.

(14) Export-related bird banding for identification.

(15) Export-related inspection and approval of pet food facilities, including laboratories that perform pet food testing.

(16) Export-related services provided at animal auctions.

(17) Various export-related facility inspections, including, but not limited to, fertilizer plants that utilize poultry waste, rendering plants, and potential embarkation facilities.

* * * * *

PART 156—VOLUNTARY INSPECTION AND CERTIFICATION SERVICE

14. The authority citation for part 156 continues to read as follows:

Authority: 7 U.S.C. 1622 and 1624; 21 U.S.C. 136a; 7 CFR 2.22, 2.80, and 371.4.

§ 156.2 [Amended]

15. Section 156.2 is amended as follows:

a. By removing the definition of cooperative agreement.

b. In the definition of inspector, by removing the words “under a cooperative agreement”.

§ 156.4 [Amended]

16. Section 156.4 is amended by removing the words “under a cooperative agreement”.

§ 156.5 [Amended]

17. Section 156.5 is amended by removing the words “service is to be furnished under a cooperative agreement;” and adding the words “the requirements of part 130 of this title are met;” in their place.

18. Section 156.7 is revised to read as follows:

§ 156.7 User fees under 9 CFR part 130.

User fees under part 130 of this chapter for service (including travel and other expenses incurred in connection with the furnishing of service) under this part shall be paid by the applicant. If required by the Administrator, the user fees under part 130 of this chapter shall be paid in advance. Since the user fees under part 130 of this chapter are for the purpose of reimbursing the Department for all costs incurred in connection with the furnishing of service under this part, the appropriate user fees under part 130 of this chapter to cover any such costs shall be paid even if service is withheld pursuant to § 156.8.

Done in Washington, DC, this 7th day of December 2007.
Kevin Shea,
Acting Administrator, Animal and Plant Health Inspection Service.

[FR Doc. E7-24177 Filed 12-12-07; 8:45 am]

BILLING CODE 3410-34-P